DEPARTMENT OF THE INTERIOR

National Park Service

[NPS-WASO-NAGPRA-NPS0034107; PPWOCRADN0-PCU00RP14.R50000]

Notice of Intent To Repatriate Cultural Items: The Nelson Gallery Foundation DBA The Nelson-Atkins Museum of Art, Kansas City, MO

AGENCY: National Park Service, Interior.

ACTION: Notice.

SUMMARY: The Nelson Gallery Foundation, in consultation with the appropriate Indian Tribes or Native Hawaiian organizations, has determined that the cultural item listed in this notice meets the definition of an object of cultural patrimony. Lineal descendants or representatives of any Indian Tribe or Native Hawaiian organization not identified in this notice that wish to claim this cultural item should submit a written request to The Nelson Gallery Foundation. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to The Nelson Gallery Foundation at the address in this notice by July 27, 2022.

FOR FURTHER INFORMATION CONTACT: Jennifer Byers, Assistant to the Deputy Director of Curatorial Affairs, The Nelson-Atkins Museum of Art, 4525 Oak Street, Kansas City, MO 64111, telephone (816) 751-1320, email jbyers@nelson-atkins.org.

SUPPLEMENTARY INFORMATION: Notice is here given in accordance with the Native American Graves Protection and Repatriation Act (NAGPRA), 25 U.S.C. 3005, of the intent to repatriate a cultural item under the control of The Nelson Gallery Foundation, Kansas City, MO, that meets the definition of an object of cultural patrimony under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

On December 12, 1931, The Nelson-Atkins Museum of Art purchased a cultural item from the Museum of the American Indian, Heye Foundation, in New York, NY, and accessioned it on January 1, 1931. The object of cultural patrimony is one woven bag.

Bags of this kind represent an ancient tradition of weaving by the Osage women. Until trade yarn was adopted by Osage weavers following European contact, such bags were woven using buffalo hair. This woven bag was consecrated and made waxobe (sacred) during ceremonies conducted by Osage clan priests. It was an intrinsic part of the Ga-hi'-ge O-k'on (Rite of the Chiefs) ceremony, where it symbolized a woman's vocation.

Determinations Made by The Nelson Gallery Foundation

Officials of The Nelson Gallery Foundation have determined that:

• Pursuant to 25 U.S.C. 3001(3)(D), the one cultural item described above have ongoing historical, traditional, or cultural importance central to the Native American group or culture itself, rather than property owned by an individual.

• Pursuant to 25 U.S.C. 3001(2), there is a relationship of shared group identity that can be reasonably traced between the object of cultural patrimony and The Osage Nation (previously listed as Osage Tribe).

Additional Requestors and Disposition

Lineal descendants or representatives of any Indian Tribe or Native Hawaiian organization not identified in this notice that wish to claim this cultural item should submit a written request with information in support of the claim to Jennifer Byers, Assistant to the Deputy Director of Curatorial Affairs, The Nelson-Atkins Museum of Art, 4525 Oak Street, Kansas City, MO 64111, telephone (816) 751-1320, email jbyers@nelson-atkins.org, by July 27, 2022. After that date, if no additional claimants have come forward, transfer of control of the object of cultural patrimony to The Osage Nation (previously listed as Osage Tribe) may proceed.

The Nelson Gallery Foundation is responsible for notifying The Osage Nation (previously listed as Osage Tribe) that this notice has been published.

Dated: June 13, 2022.
Melanie O'Brien,
Manager, National NAGPRA Program.

[FR Doc. 2022-13623 Filed 6-24-22; 8:45 am]

BILLING CODE 4312-52-P